DEPARTMENT OF AGRICULTURE

Animal and Plant Health Inspection Service

9 CFR Part 94

[Docket No. 04-083-1]

Add Argentina to the List of Regions Considered Free of Exotic Newcastle Disease

AGENCY: Animal and Plant Health Inspection Service, USDA.

ACTION: Proposed rule.

SUMMARY: We are proposing to amend the regulations by adding Argentina to the list of regions considered free of exotic Newcastle disease. We have conducted a risk evaluation and have determined that Argentina has met our requirements for being recognized as free of this disease. This proposed action would eliminate certain restrictions on the importation into the United States of poultry and poultry products from Argentina. We would also add Argentina to the list of regions that, although declared free of exotic Newcastle disease, must provide an additional certification to confirm that any poultry or poultry products offered for importation into the United States originate in a region free of exotic Newcastle disease and that, prior to importation into the United States, such poultry or poultry products were not commingled with poultry or poultry products from regions where exotic Newcastle disease exists.

DATES: We will consider all comments that we receive on or before October 24, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 04-083-1, Regulatory Analysis and Development, PPD, APHIS, Station 3C71, 4700 River Road Unit 118, Riverdale, MD 20737-1238. Please state that your comment refers to Docket No. 04-083-1.

• Federal eRulemaking Portal: Go to http://www.regulations.gov and follow the instructions for locating this docket and submitting comments.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Dr. David Nixon, Case Manager, Regionalization Evaluation Services, National Center for Import and Export, VS, APHIS, 4700 River Road Unit 38, Riverdale, MD 20737-1231; (301) 734-4356.

SUPPLEMENTARY INFORMATION:

Background

The regulations in 9 CFR part 94 (referred to below as the regulations) govern the importation into the United States of specified animals and animal products in order to prevent the introduction of various animal diseases, including exotic Newcastle disease (END). END is a contagious, infectious, and communicable disease of birds and poultry. Section 94.6 of the regulations provides that END is considered to exist in all regions of the world except those listed in § 94.6(a)(2), which are considered to be free of END.

The Government of Argentina has requested that APHIS evaluate Argentina's animal health status with respect to END and provided information in support of that request in accordance with 9 CFR part 92, “Importation of Animals and Animal Products: Procedures for Requesting Recognition of Regions.”

Risk Evaluation

Using information submitted to us by the Government of Argentina through the animal health officials of the National Health and Agrifood Quality Service (El Servicio Nacional de Sanidad y Calidad Agroalimentaria, SENASA), as well as information gathered during site visits by APHIS staff to Argentina in June and December of 2003, we have reviewed and analyzed the animal health status of Argentina relative to END. The review and analysis were conducted in light of the factors identified in § 92.2, “Application for recognition of the animal health status of a region,” which are used to evaluate the risk associated with importing animals or animal products into the United States from a given region. Based on the information submitted to us, we have concluded the following:

Veterinary Infrastructure

All animal disease and control programs in Argentina operate under the General Animal Health Enforcement Law (Law No. 3959/1903). Under this law, SENASA has passed several resolutions specifically pertaining to the control and surveillance of END, including SENASA's resolutions to secure Argentina's compliance with the European Union (EU) requirements for the importation of poultry. SENASA is divided into several sections, four of which focus on animal health issues. In 2003, SENASA had a budget of approximately $39 million U.S. dollars and employed 572 veterinarians.

In 2001 and 2002, SENASA was reorganized to increase the agency's quality of response to animal disease control and eradication. This reorganization, which occurred after the foot-and-mouth disease outbreak in 2001, involved centralizing authority, examining international standards and certification requirements, and increasing efficiency and transparency through internal monitoring, accountability, and increased compliance with national policies. The new structure of SENASA includes 25 regional offices and 316 field offices throughout Argentina. The regional offices are responsible for overseeing the field offices, which monitor local prevention and control measures, census information, eradication, compliance, emergency actions, health actions, premises identification, movement controls, and recordkeeping.

In order to monitor poultry in Argentina, SENASA requires that all premises with commercial poultry register with SENASA and obtain a unique alphanumeric identifier called a RENSPA (Regestrio Nacional Sanitario de Productores Agropecuarios, National Sanitary Registry of Ag-Producers) number. The RENSPA number identifies the province, municipality, premises, and certain characteristics of the facility from which the animal came, such as facility ownership. The RENSPA number is used to maintain a database that includes census information, animal movement permit information, and the END status of the premises. SENASA reports that compliance with RENSPA registration is high. Although RENSPA registration is not specifically required for backyard poultry flocks, SENASA believes that these flocks do not pose a major threat of END as these birds are intended primarily for home consumption rather than for exportation.

RENSPA applications also must include the name of the veterinarian who serves the premises. This veterinarian is required by law to report any animal health problems occurring on the premises. If the veterinarian or the owner fails to report, the owner can be disqualified from collecting indemnity under the indemnity program explained in the “Passive Surveillance” section below. Also, a fine may be collected from either the veterinarian or the premises owner.

The results of our evaluation indicate that animal health officials in Argentina have the legal authority to enforce Federal and State regulations pertaining to END and the necessary veterinary infrastructure to carry out END surveillance and control activities.

Disease History and Surveillance

The first diagnosis of END in Argentina occurred in 1961. Since that time, there have been four additional outbreaks—one in 1966, one in 1970, and two in 1987. In 1967, the Argentine Government made END reporting mandatory. Argentina has not recorded an outbreak of END in domestic poultry flocks since October 1987; however, in 1999 a virulent strain of paramyxovirus type-1 was isolated from wild pigeons. This discovery in the wild pigeon population was not considered to be an imminent threat to commercial poultry flocks as general industry practice includes vaccinating commercial birds against END (as described below in the “Vaccination Status” section) and keeping these birds in enclosed buildings that separate them from wild birds.

The August 1987 outbreak occurred in four backyard premises and affected approximately 300 hens. This infection was discovered when unvaccinated backyard birds were at an exhibition and began to show END symptoms. Other birds at the exhibition site became infected, but the Argentine Government controlled the spread through slaughter and disinfection. The outbreak in October 1987, the origin of which is unknown, affected 180,000 commercial broiler birds housed at 9 poultry farms. In addition to slaughter and disinfection, the government also used vaccination, collection of blood samples for serum testing, necropsy of all animals dying on neighboring premises within a radius of 25 km for the following 35 days, and the application of stringent biosecurity measures such as access controls at farms and testing of wild birds.

Active Surveillance

Argentina has had an active sampling program in place since 1996. This program is evaluated yearly and modifications to the plan are based on an annual risk assessment, the prior year's test results, and practicalities of testing such as cost and personnel availability. From 1996 through 2001, SENASA biannually tested both commercial flocks and noncommercial flocks and took a large number of samples, which all were either negative for END or were positive with vaccine strains. For the 2002-2004 active surveillance program, SENASA tested two target populations. The first population consisted of noncommercial bird flocks, including imported birds, birds found in the wild, and birds in zoos and backyards. The second group covered by the surveillance program consisted of testing commercial bird flocks including heavy and light breeding grandmother and parent birds, high-yielding hens, and commercial broilers.

Currently, SENASA is working to update and expand its surveillance and control programs, including adding new standards for parent and grandparent facilities.

Passive Surveillance

SENASA has a system in place through which government officials, veterinarians, producers, and the public can notify SENASA officials of potential outbreaks. After a potential or verified outbreak has been reported, SENASA officials must immediately investigate. SENASA also has the authority to inspect suspected premises or, if a search is refused, set up a quarantine on that particular premises. SENASA can then obtain a court order to inspect the premises. Finally, SENASA has emergency response mechanisms for health and sanitary measures, as well as ante-mortem and postmortem sanitary inspection of birds for slaughter. Minimum biosecurity and hygiene standards for poultry farms and treatment of poultry waste also exist.

In addition, SENASA also compensates Argentine citizens when they report a case of END in their own flocks. Therefore, if an animal is found to have END and destroyed, the owner is entitled to indemnity for the fair market value of the animal. If an individual fails to report a case of END that is later discovered, indemnity is not paid. Although the indemnity program provides individuals with an incentive to report END, there is little communication with the public about this program and the site visit team discovered that producers were not aware of the program. Therefore, APHIS recommended that SENASA attempt to enhance public awareness of the program.

Results of our evaluation indicate that authorities in Argentina are conducting an adequate level of END surveillance to detect the disease if it were present.

Diagnostic Capabilities

In Argentina, the main laboratory conducting END testing is the central SENASA laboratory in Buenos Aires, which is supplemented by five network laboratories and the National Farming Technology Institute (Instituto Nacional de Tecnología Agropecuaria, INTA). In addition, SENASA has indicated that additional experts or staff from various organizations could assist during outbreaks. The Coordinating Department of Quarantine, Borders, and Certifications sends import/export samples to the laboratories between 1 and 3 days after the birds arrive in Argentina. The diagnostic process typically takes 15 to 20 days.

The central SENASA laboratory develops official testing protocols for the network laboratories, performs official tests of suspect END cases, conducts virus characterization studies on suspect isolates from the network laboratories, evaluates serological testing done by network laboratories, and oversees the use of avian vaccines. The laboratory has a barcoding system in place to track samples accurately and to allow for blind, unbiased testing. This laboratory is in the final stages of a $3 million renovation and new construction project. The food sections of the central laboratory, including residues and food control, are accredited by the Argentine Accreditation Organization (Organismo Argentino de Acreditación, OAA) under International Organization for Standardization (ISO) 17025 standards. During 2005, the laboratory is considering pursuing ISO 17025 accreditation for the biological tests and analytical methods used for disease testing. Although training at this facility appears to be sporadic, the personnel assigned to the avian section are technically proficient and knowledgeable about END.

The five network laboratories were developed in 1997 to conduct virus isolation for END to meet export requirements to the EU. The network laboratories are inspected yearly and must pass an annual proficiency test involving virus isolation in samples. The five network laboratories currently are suspended from official testing until they become accredited under ISO 17025 standards, but can continue to carry out certain tests that later can be validated by the central laboratory. In addition, the current demand for END testing is low enough that all testing can be performed at the central laboratory. If an emergency were to arise and additional testing was required, the network laboratories would assist the central laboratory with such tests.

The INTA is a laboratory administered and funded separately from SENASA. The INTA provides technical services to SENASA for specific types of tests and is involved in testing wild birds for END and avian influenza virus. This lab also does all of the molecular tests needed by SENASA, which expects to perform these tests at network laboratories in the future.

APHIS concluded that the laboratory capabilities and infrastructure in Argentina are sufficient to support the END surveillance activities.

Vaccination Status

END vaccination in Argentina is mandatory for messenger pigeons only; all other END vaccinations are voluntary. SENASA estimates that approximately 80 percent of the poultry in Argentina is vaccinated based on vaccination schedules that have been put into place for production birds, breeding birds, and ornamental birds in markets and exhibitions. The 2003 site visit indicated that these schedules are identical or very similar to producers' vaccination regimens observed in farm records. This vaccination schedule leaves 20 percent of the poultry population to serve as sentinel birds along with certain broilers that are vaccinated only once in their first 14 days, which reduces their immunity to END later in life.

Although backyard domestic fowl and exhibition birds usually are not vaccinated unless they participate in exhibitions or fairs, Argentina has tested this population and the results showed that all of the birds tested were either negative for END or tested positive for a vaccination strain of END.

APHIS concluded that these vaccinated birds do not constitute a significant risk factor for introducing END into the United States.

Disease Status of Adjacent Regions

Argentina is bordered by Paraguay in the north, Bolivia in the northwest, Uruguay and Brazil in the northeast, and Chile in the west. Chile is recognized by both APHIS and Argentina as END-free. Argentina also recognizes Uruguay as END-free. Brazil and Bolivia reported END outbreaks in 2001 and 2002, respectively, and therefore are not recognized as END-free by either the United States or Argentina.

Because there have been recent END outbreaks in Brazil and Bolivia, APHIS proposes to add Argentina to the list in § 94.26 of regions that, although declared free of END, supplement their meat supply by the importation of fresh (chilled or frozen) poultry meat from regions designated in § 94.6(a) as regions where END is considered to exist, have a common land border with regions where END is considered to exist, or import live poultry from regions where END is considered to exist under conditions less restrictive than would be acceptable for importation into the United States. Therefore, poultry and poultry products from Argentina would have to meet the additional certification requirements of § 94.26 to be eligible for importation into the United States. These certification requirements are explained later in this document under the heading “Certification Requirements.”

Degree of Separation From Adjacent Regions

Argentina's western and southern borders are with Chile and are composed entirely of the Andean Mountain Range. The northern border of Argentina is shared with Bolivia and Paraguay. Approximately half of the Bolivian portion of the border runs along river coastlines, while the other half has no natural barriers. The border with Paraguay is comprised mostly of rivers; however, a small portion of the border has no natural barrier. Finally, the eastern border of Argentina is shared with Uruguay and Brazil. The border with Brazil consists mostly of river coastlines, with approximately 30 km of border with no natural barriers. The border with Uruguay is composed entirely of river coastlines.

Although most of the Argentine border has adequate protection from adjacent countries through natural barriers, large areas on the borders with Bolivia and Paraguay and a small area on the border with Brazil may create the potential for END-infected animals to enter into Argentina from adjacent areas of high risk. In order to prevent this movement, effective movement controls must be in place.

Movement Controls and Biological Security

Import Controls

All importations of live animals, genetic material, animal products, and animal byproducts into Argentina are allowed only under permits issued by SENASA. In order for other countries to export poultry and poultry products to Argentina, the potential exporting country must complete a review by SENASA consisting of a questionnaire and a site visit. Based on the results of the review, SENASA officials determine the types of animals and animal products that can enter Argentina and whether certain restrictions, such as a quarantine or testing, should be applied. Argentina also has limited or banned certain types of poultry from entering the country. Import procedures differ depending on the life stage of the poultry, and records are kept for all imported materials.

Although Argentina does have a permit system, some importers attempt to bring poultry or poultry products into the country without a permit. Most of the permitting problems are associated with importation of ornamental pet birds. Commercial shipments of exotic birds are usually handled by five or six legitimate importers, all of whom are known to SENASA. That relationship enables SENASA to be aware of when permitted shipments are due to arrive; thus, when SENASA receives information concerning unscheduled shipments, it is in a better position to act on those shipments.

Export Controls

Argentina's export requirements for poultry are based in large part on Argentina's compliance with the EU standards for exporting poultry. In order for poultry to be exported, it must come directly from commercial farms that have chemical or drug withdrawal protocols and are held to strict sanitary and vaccination rules. These farms must be registered with various organizations and are subject to inspection by a veterinarian or by his or her appointed personnel. Any poultry taken to slaughterhouses for export must be identified properly and accompanied by proper health and movement certificates. Poultry must then be slaughtered at a slaughterhouse approved for export to the particular country of destination.

SENASA does not control biosecurity at commercial facilities, which are likely to be the main source of poultry shipped to the United States. However, SENASA regulations address biosecurity standards and hygiene for avian establishments. Although these regulations do not appear to have an enforcement mechanism, compliance seems to be high. In addition, commercial birds are not likely to mix with other potentially infected birds as SENASA has indicated that Argentina does not have live markets with birds for sale for consumption. Also, in both urban and rural areas, backyard and non-commercial flocks are typically raised for home consumption only. These birds are considered unlikely to stray far from the home in rural areas because of carancho (local predator birds), and free-roaming birds in urban areas are likely to be picked up by other residents for consumption or sale.

Argentina's main export to the United States would likely be poultry meat rather than live birds. Previous experience with END in the United States suggests that the importation of live birds presents a far more likely initial exposure pathway than poultry meat or products. However, if Argentina did choose to export live birds to the United States, these birds would have to be placed in a mandatory 30-day quarantine upon their arrival. During this time, live birds would be tested for END and may be destroyed if the disease is found. The 30-day time frame exceeds the incubation period for END, making it very unlikely that birds with END would enter into the United States undetected. In addition, these birds would have to meet the additional certification requirements as described below in the “Certification Requirements” section, further ensuring that birds entering the United States would be free of END.

Given this information, APHIS did not identify any significant risk pathways to consider commercial poultry operations as a likely source for introducing END into the United States.

Movement Across Borders

There are 45 authorized border stations in Argentina, including terrestrial stations, maritime and fluvial ports, and airports. These border stations are managed by SENASA's Quarantine, Borders, and Certifications unit. Each station is staffed by various security forces, who cooperate with SENASA under official agreements. Because these forces are the primary identifiers of illegal material, SENASA works to ensure that these individuals are trained to perform these duties. In addition, there are 394 permanent SENASA employees at border stations throughout Argentina.

For air-based transportation of poultry and poultry products, the site visit team toured two airports: Ezeiza Airport in Buenos Aires, which is the only airport through which live birds are transported, and Aeroparque Airport. Ezeiza is open 24 hours a day and has at least three to five veterinarians on staff during peak hours. If shipments arrive when the veterinarians are not present, the shipment must either wait until the veterinarians arrive or arrangements must be made in advance for a veterinarian to be present. Since 1999, Argentina has scanned all luggage entering the airports. In addition, beagle dogs have been trained to inspect luggage for both plant and animal products. To the extent possible, the dogs are scheduled to work when the riskiest flights are likely to arrive.

When passengers arrive at an Argentine airport, they first must pass through immigration where signs listing prohibited items are conspicuously posted. The beagles are used while the passengers are collecting their luggage and if a beagle identifies a bag, the bag is marked for further inspection. Passengers then proceed to customs where they must declare any items on a form provided by customs officials. The bags are then scanned and any suspicious or marked bags are inspected by hand. Any confiscated avian material is chemically treated to inactivate the END virus and is buried in a landfill. Approximately 2 tons of plant and animal material are confiscated at Ezeiza per month.

There are 21 land ports in Argentina: 6 on the border with Chile, 3 on the border with Uruguay, 6 on the border with Brazil, 3 on the border with Paraguay, and 3 on the border with Bolivia. Permanent SENASA personnel are stationed at each port along with the other officials described above. Usually, bags are searched manually; however, some of the land-based ports have scanners capable of detecting organic material for use during high traffic hours. For large shipments through Iguazú, SENASA officials must be notified 15 days in advance and can reject the shipment if the documentation is incomplete or appears to be fraudulent. All exporters and importers must be registered with SENASA, and the shipment must be accompanied by a permit. The shipment information is then entered into a database. During the November 2003 site visit, the APHIS team visited several potentially risky border stations, such as the crossings between Argentina and Bolivia. There is heavy local traffic between these ports with many individuals carrying personal food supplies between countries, which are not likely to pose a significant risk to aviculture.

Any illegal items found at border crossings are confiscated, sprayed with methylene blue or a similar solution to denature them, and incinerated. Each local office keeps records of interceptions for 2 years. A review of records at several local offices indicated that there had been no interceptions of live birds and that avian products had been limited to eggs intended for local sale across the border or small amounts of chicken meat.

After the land-based border checkpoints, there are also additional control points where vehicles, including passenger buses, are stopped and inspected. Only some of these checkpoints employ SENASA personnel, but all have some type of border surveillance personnel. Many of the border control points visited by APHIS staff have facilities to spray-treat vehicles. These points are also located on roads where there are no alternative routes into the country, therefore ensuring that all vehicles would have to pass through these stations.

For boat crossings, all of the crossings are staffed by customs officials and land forces, but not all have permanent SENASA staff. However, the workers are instructed to look for prohibited animal and plant substances.

Smuggling is also a potential problem in Argentina. The amount of smuggling fluctuates depending on the local economy and the exchange rates between neighboring countries. Additionally, much of the material smuggled through ports such as Iguazú and the Bolivian border stations is likely to be for local use instead of commercial trade and sale. In the past, SENASA officials have been able to discover illegal shipments and either destroy the animals or test them for END and release them once they were diagnosed as clean.

Officials in Argentina have the authority, procedures, and infrastructure to enforce effectively the system of permits, inspection, quarantines, and treatments that the country has in place to control animals and animal products. APHIS did not identify any specific limitations in the system that might pose an END risk to the United States.

Livestock Demographics and Marketing Practices

Aviculture is Argentina's second largest livestock production industry with 521,766 tons (over 260 million birds) of poultry meat production in 2002 and 687,653 tons (over 343 million birds) of production in 2001. The most recent census, which only covers the first months of 2003, indicate that there are over 96 million birds in Argentina, with most of the commercial poultry population (90 percent) contained in the Buenos Aires and Entre Ríos provinces. This number is expected to increase as more broilers are hatched and raised for meat production throughout the year. These numbers are taken from RENSPA, the National Livestock Census, and information gathered from the poultry industry. Argentina has been exporting meat to the EU for several years. Disease control and surveillance programs are in place for poultry that specifically target END.

Registration for farms and properties with birds fall into two categories: Commercial production farms or premises with birds. The commercial production farm category is further divided into reproduction farms, broilers, hatcheries, layers, other commercial bird farms (e.g. turkey, quail, etc.), and farms of organically raised chickens. For premises with birds, the category is divided into house birds kept mainly for consumption of meat or eggs by families, purebred birds routinely gathered at bird shows (including fighting birds, messenger pigeons, ornamental birds), and field birds produced semi-intensively for consumption by their owners.

For commercial birds, the number of birds per type of production is laid out in table 1. The commercial farms in Argentina typically are operated under a vertical integration system so that breeding flocks, incubating farms, broilers, feed mills, slaughter plants, and diagnostic laboratories all operate under the same company name. Commercial broiler production farms have an average of 4 to 5 barns, each with a bird population density of 10 to 12 birds per square meter. The birds are the same age at the farm so that when the birds are sent to slaughter, the barn is empty. Breeding farms have an average of 2 to 3 barns, each with 4 to 5 females per male and 4 to 5 female birds per square meter. Again, the birds at the farm are the same age.

APHIS did not identify any factors in this category that might pose an animal health risk to the United States if poultry or poultry products were to be imported from Argentina.

Table 1.—Number of Birds per Type of Production
Type of bird | Number of birds
Commercial broilers | 70,000,000
Heavy breeding flocks | 3,300,000
High yielding hens | 18,000,000
Light breeding flocks | 500,000
High yielding stocking hens | 4,300,000
Turkeys | 125,000

Detection and Eradication of Disease

END has been effectively controlled and eradicated from commercial poultry populations in Argentina. Although END still exists in the wild pigeon population, adequate controls are in place to ensure that spread to commercial flocks does not occur. The Argentine Government also has taken precautions following the END outbreaks in the 1980s and more recent FMD outbreaks to better protect the country from the introduction of animal diseases. Given the above information, APHIS considers the likelihood of an END outbreak occurring in Argentina to be low.

Certification Requirements

As noted previously, we are proposing to add Argentina to the list of regions in § 94.26 and therefore require further certification of the END-free status of any poultry or poultry products imported into the United States from Argentina. An END-free region may be added to this list when it supplements its meat supply with imports of fresh (chilled or frozen) poultry meat from a region where END is considered to exist; has a common land border with an END-affected region; or imports live poultry from an END-affected region under conditions less restrictive than would be acceptable for importation into the United States. As previously noted, Argentina shares land borders with Brazil and Bolivia, both of which have experienced recent END outbreaks. Thus, even though we are proposing to declare Argentina free of END, there is a risk that poultry or poultry products originating in Argentina may be commingled with poultry or poultry products originating in an END-affected region.

Adding Argentina to the list of regions in § 94.26 would mean that live poultry, poultry meat and other poultry products, and ship stores, airplane meals, and baggage containing such meat or animal products originating in Argentina could not be imported into the United States unless the requirements described below were met. For all poultry and poultry products, each shipment would have to be accompanied by a certification by a full-time salaried veterinary officer of the Government of Argentina that would have to be presented to an authorized inspector at the port of arrival in the United States. The certification for live poultry would have to state that:

• The poultry have not been in contact with poultry or poultry products from any region where END is considered to exist;

• The poultry have not lived in a region where END is considered to exist; and

• The poultry have not transited through a region where END is considered to exist unless moved directly through the region in a sealed means of conveyance with the seal intact upon arrival at the point of destination.

The certification accompanying poultry meat or other poultry products would have to state that:

• The poultry meat or other poultry products are derived from poultry that meet all requirements of § 94.26 and that have been slaughtered in a region designated in § 94.6 as free of END at a federally inspected slaughter plant that is under the direct supervision of a full-time salaried veterinarian of the national government of the exporting region and that is approved to export poultry meat and other poultry products to the United States in accordance with the regulations of the U.S. Department of Agriculture's Food Safety and Inspection Service (FSIS) in 9 CFR 381.196;

• The poultry meat or other poultry products have not been in contact with poultry meat or other poultry products from any region where END is considered to exist;

• The poultry meat or other poultry products have not transited through a region where END is considered to exist unless moved directly through the region in a sealed means of conveyance with the seal intact upon arrival at the point of destination; and

• If processed, the poultry meat or other poultry products were processed in a region designated in § 94.6 as free of END in a federally inspected processing plant that is under the direct supervision of a full-time salaried veterinarian of the Government of Argentina.

Adding Argentina to the list of regions in § 94.26 would necessitate several editorial changes to that section. Currently, § 94.26 focuses exclusively on END-free regions within Mexico and has language specifically tailored to address those regions. In order to include Argentina in § 94.26, it would be necessary to remove specific references to the Government of Mexico and replace them with more general references to the national government of the exporting region.

Conclusion

Results of our evaluation indicate that the Argentine Government has the laws, policies, and infrastructure to detect, respond to, and eliminate any reoccurrence of END.

These findings are described in further detail in a qualitative evaluation that may be obtained from the person listed under FOR FURTHER INFORMATION CONTACT and may be viewed on the Internet at http://www.aphis.usda.gov/vs/reg-request.html by following the link for current requests and supporting documentation. The evaluation documents the factors that have led us to conclude that commercial poultry in Argentina are END-free. Therefore, we are proposing to recognize Argentina as free of END, add that country to the list in § 94.6 of regions where END is not known to exist, and amend § 94.26 to include Argentina in the list of regions that must provide further certification of the END-free status of any poultry or poultry products exported to the United States.

Executive Order 12866 and Regulatory Flexibility Act

This proposed rule has been reviewed under Executive Order 12866. The rule has been determined to be not significant for the purposes of Executive Order 12866 and, therefore, has not been reviewed by the Office of Management and Budget.

Under the regulations in 9 CFR part 94, the importation into the United States of poultry and poultry products that originate in or transit any region where END exists is generally prohibited. Furthermore, even if a region is considered free of END, the importation of poultry and poultry products from that region may be restricted depending on the region's proximity to or trading relationships with countries or regions where END is present.

This proposed rule would amend the regulations by adding Argentina to the list of regions considered free of END. However, since Argentina shares borders with regions that the United States does not recognize as free of END, we are also proposing that Argentina meet additional certification requirements for live poultry and poultry products imported into the United States to ensure that the imports are free from END.

Over the past several years, Argentina's poultry industry has increased substantially as shown in table 2. Although Argentina exports eggs, which typically are destined to Denmark, the main export for Argentina is poultry meat. Argentina exports poultry meat and products to 34 countries, with Chile expected to be the largest importer. In 2003, Argentina exported $22 million of poultry meat including whole broilers (36 percent), chicken paws (30 percent), processed meat from layers (5 percent), and other products and byproducts such as wings, nuggets, burgers, offal, and breasts (29 percent). Exports for poultry meat in 2004 are projected at 70,000 tons, almost twice the amount exported in 2003. In 2005, exports are projected to reach 110,000 metric tons.

Table 2.—Poultry Exports, Imports, and Production in Argentina
[In metric tons]
Year | Poultry imports | Poultry exports | Poultry production
1998 | 65,215 | 18,936 | 930,247
1999 | 55,608 | 17,097 | 982,860
2000 | 45,683 | 19,187 | 1,000,260
2001 | 26,661 | 21,243 | 993,122
2002 | 1,196 | 30,501 | 972,870
Source: FAOSTAT Argentina Poultry, last accessed November 2004.

In 2003, poultry production in the United States totaled 38.5 billion pounds for a total value of $23.3 billion. Broiler meat accounted for $15.2 billion (65 percent) of this value in 2003. The remaining worth was comprised of the value of eggs ($5.3 billion), turkey ($2.7 billion), and other chicken products ($48 million). The United States is also the world's largest exporter of broilers, with broiler exports totaling 4.93 billion pounds, the equivalent of $1.5 billion, in 2003. Imports of broiler products into the United States in 2003 totaled 12 million pounds, or less than 1 percent of the domestic production.

In 2002, there were approximately 32,006 broiler and other meat producing chicken farms in the United States, as shown in table 3. Under the Small Business Administration's size standards, broiler and other meat production chicken farms with less than $750,000 in annual sales, which is the equivalent of 300,000 birds, qualify as small businesses. Given this information, about 20,949, or 64.5 percent of all broiler operations, qualify as small businesses.

Table 3.—Number of Farms Selling Broilers and Other Meat-Type Chickens, 2002
Number sold | Farms | Number | Average sales per farm
Broilers and other meat-type chickens | 32,006 | 8,500,313,357 | $766,498
1 to 1,999 | 10,869 | 1,146,308 | 304
2,000 to 15,999 | 406 | 2,871,466 | 20,412
16,000 to 29,999 | 206 | 4,420,530 | 61,932
30,000 to 59,999 | 444 | 19,732,838 | 128,267
60,000 to 99,999 | 1,060 | 84,498,647 | 230,066
100,000 to 199,999 | 3,311 | 498,386,958 | 434,425
200,000 to 299,999 | 4,653 | 1,137,668,155 | 705,651
300,000 to 499,999 | 5,754 | 2,191,324,340 | 1,099,118
500,000 or more | 5,303 | 4,560,264,115 | 2,481,853
Source: 2002 Census of Agriculture, Table 27.

Broiler production in the United States is concentrated in a group of States stretching from Delaware south along the Atlantic coast to Georgia, then westward through Alabama, Mississippi, and Arkansas. These States accounted for over 70 percent of broilers in the United States in 2003. The top five broiler producing States are Georgia, Arkansas, Alabama, Mississippi, and North Carolina, whose 2002 broiler sales are listed below in table 4.

Table 4.—Number of Farms Selling Broilers in Selected States, 2002
Number of broilers sold per farm | U.S. total | Alabama | Arkansas | Georgia | Mississippi | North Carolina | Total for top five producing States
1 to 1,999 | 10,869 | 89 | 79 | 46 | 104 | 13 | 331
2,000 to 59,999 | 1,056 | 20 | 103 | 49 | 86 | 101 | 359
60,000 to 99,999 | 1,060 | 57 | 199 | 84 | 97 | 158 | 595
100,000 to 199,999 | 3,311 | 385 | 634 | 25 | 210 | 539 | 1,793
200,000 to 499,999 | 10,407 | 1,328 | 1,927 | 1,335 | 883 | 1,284 | 6,757
500,000 or more | 5,303 | 72 | 578 | 959 | 548 | 349 | 2,506
Source: 2002 Census of Agriculture State Data Table.

Poultry meat imported from Argentina could potentially affect the United States poultry industry. Consumers would benefit from any price decreases for poultry and poultry products, while producers would potentially be negatively affected by more competitive prices. However, the amount of poultry or poultry products that may be imported from Argentina is not expected to have a significant impact on poultry consumers or producers in the United States. In 2003, Argentina exported a total of $22 million worth of poultry and poultry products while the United States produced $15.2 billion worth of broilers. Given these numbers, any exports from Argentina are not likely to be in quantities sufficient to have a significant impact on U.S. poultry producers, and we do not anticipate that any U.S. entities, small or otherwise, would experience any significant economic effects as a result of this proposed action. It should also be noted that Argentina is not currently eligible to export poultry products to the United States under the FSIS regulations cited earlier in this document; there would, therefore, be no economic effects on U.S. entities until establishments in Argentina were approved to export poultry meat and other poultry products to the United States.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we propose to amend 9 CFR part 94 as follows:

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

1. The authority citation for part 94 would continue to read as follows:

Authority: 7 U.S.C. 450, 7701-7772, and 8301-8317; 21 U.S.C. 136 and 136a; 31 U.S.C. 9701; 7 CFR 2.22, 2.80, and 371.4.

§ 94.6 [Amended]

2. In § 94.6, paragraph (a)(2) would be amended by adding the word “Argentina,” before the word “Australia,''.

3. Section 94.26 would be amended as follows:

a. In the introductory text of the section, the first sentence would be amended by removing the words “The Mexican” and adding the words “Argentina and the Mexican” in their place.

b. In paragraph (a), the words “Government of Mexico” would be removed and the words “national Government of the exporting region” would be added in their place.

c. In paragraph (c)(1), the words “Government of Mexico” would be removed and the words “national Government of the exporting region” would be added in their place.

d. In paragraph (c)(4), the words “Government of Mexico” would be removed and the words “national Government of the exporting region” would be added in their place.

Done in Washington, DC, this 17th day of August 2005.
Elizabeth E. Gaston,
Acting Administrator, Animal and Plant Health Inspection Service.

[FR Doc. 05-16689 Filed 8-22-05; 8:45 am]

BILLING CODE 3410-34-P